OFFICE OF PERSONNEL MANAGEMENT

5 CFR Part 532

RIN 3206-AN50

Prevailing Rate Systems; Definition of Brown County, Wisconsin, and Forsyth and Mecklenburg Counties, North Carolina, to Nonappropriated Fund Federal Wage System Wage Areas

AGENCY: U.S. Office of Personnel Management.

ACTION: Final rule.

SUMMARY: This rule amends the geographic boundaries of three nonappropriated fund (NAF) Federal Wage System (FWS) wage areas. Based on consensus recommendations of the Federal Prevailing Rate Advisory Committee (FPRAC), the U.S. Office of Personnel Management (OPM) is defining Brown County, Wisconsin, as an area of application county to the Lake, Illinois, NAF FWS wage area; Forsyth County, North Carolina, as an area of application to the Cumberland, NC, NAF FWS wage area; and Mecklenburg County, NC, as an area of application to the Richland, South Carolina, NAF FWS wage area. These changes are necessary because there are NAF FWS employees working in these three counties, and the counties are not currently defined in regulation to NAF wage areas.

DATES:

Effective date: This regulation is effective on August 28, 2017.

Applicability date: This change applies on the first day of the first applicable pay period beginning on or after September 27, 2017.

FOR FURTHER INFORMATION CONTACT: Madeline Gonzalez, by telephone at (202) 606-2838 or by email at pay-leave-policy@opm.gov.

SUPPLEMENTARY INFORMATION: On May 15, 2017, OPM issued a proposed rule (82 FR 22298) to define—

• Brown County, WI, as an area of application county to the Lake, IL, NAF FWS wage area;

• Forsyth County, NC, as an area of application to the Cumberland, NC, NAF FWS wage area; and

• Mecklenburg County, NC, as an area of application to the Richland, SC, NAF FWS wage area.

FPRAC, the national labor-management committee responsible for advising OPM on matters concerning the pay of FWS employees, reviewed and recommended these changes by consensus. These changes will apply on the first day of the first applicable pay period beginning on or after 30 days following publication of the final regulations.

The proposed rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

E.O. 13771, Reducing Regulation and Controlling Regulatory Costs

This rule is not an E.O. 13771 regulatory action because this rule is not significant under E.O. 12866.

U.S. Office of Personnel Management.
Kathleen M. McGettigan,
Acting Director.

Accordingly, OPM is amending 5 CFR part 532 as follows:

PART 532—PREVAILING RATE SYSTEMS

1. The authority citation for part 532 continues to read as follows:

Authority: 5 U.S.C. 5343, 5346; § 532.707 also issued under 5 U.S.C. 552.

2. Appendix D to subpart B is amended by revising the wage area listing for the Lake, IL; Cumberland, NC; and Richland, SC, wage areas to read as follows:

Appendix D to Subpart B of Part 532—Nonappropriated Fund Wage and Survey Areas

* * * * *
ILLINOIS
Lake
Survey Area
Illinois:
Lake
Area of Application. Survey area plus:
Illinois:
Cook
Rock Island
Vermilion
Iowa:
Johnson
Michigan:
Dickinson
Marquette
Wisconsin:
Brown
Dane
Milwaukee
* * * * *
NORTH CAROLINA
* * * * *
Cumberland
Survey Area
North Carolina:
Cumberland
Area of Application. Survey area plus:
North Carolina:
Durham
Forsyth
Rowan
* * * * *
SOUTH CAROLINA
* * * * *
Richland
Survey Area
South Carolina:
Richland
Area of Application. Survey area plus:
North Carolina:
Buncombe
Mecklenburg
South Carolina
Sumter
Tennessee
Washington
* * * * *

[FR Doc. 2017-18204 Filed 8-25-17; 8:45 am]

BILLING CODE 6325-39-P